DEPARTMENT OF HEALTH AND HUMAN SERVICES

Administration on Aging

Notice of Availability

Purpose of Notice: Availability of funding opportunity announcement.

Funding Opportunity Title/Program Name: Older Americans Act (OAA), Title VI, Part A—Grants for Native Americans, Part B—Grants for Native Hawaiian Programs and Part C—Grants for the Native American Caregiver Support Program.

Announcement Type: This is the initial announcement for this funding opportunity.

Funding Opportunity Number: Program Announcement No. HHS-2008-AoA-Title VI-0802.

Statutory Authority: The Older Americans Act, Public Law 109-365.

Catalog of Federal Domestic Assistance (CFDA) Number: 93.047, Title VI Parts A and B and 93.052, Title VI Part C.

Dates: The deadline date for the submission of applications is January 22, 2008.

I. Funding Opportunity Description

This announcement seeks proposals for grants to provide nutritional and supportive services to Indian elders and Native Hawaiian elders under Part A and Part B and Family Caregiver support services under Part C. The goal of these programs is to increase home and community based services to older Indians, Alaska Natives and Native Hawaiians, which respond to local needs and are consistent with evidence-based prevention practices. A detailed description of the funding opportunity may be found at http://www.olderindians.org.

II. Award Information

1. Funding Instrument Type: Grant.

2. Anticipated Total Priority Area Funding per Budget Period:

The Administration on Aging (AoA) will accept applications for funding for a three-year project period, April 1, 2008 to March 31, 2011, in FY 2008 under the OAA, Title VI, Part A—Grants for Native Americans, Part B—Grants for Native Hawaiian Programs and Part C—Grants for the Native American Caregiver Support Program. Current annual funding levels for Title VI, Part A and Part B range from $72,850 to $135,500. Current annual funding levels for Title VI, Part C range from $14,720 to $58,230. Distribution of funds among tribal organizations and Native Hawaiian organizations is subject to the availability of appropriations to carry out Title VI. Funding is based on the number of eligible elders over the age of 60 in your proposed service area. Successful applications from new grantees will be funded pending availability of additional funds. For those applying for Title VI, Parts A and B funding you have the option to also apply for Part C. However, to apply for Part C, you must apply for both Part A and Part C or Part B and Part C.

III. Eligibility Criteria and Other Requirements

1. Eligible Applicants

Eligibility for grant awards is limited to all current Title VI, Part A and Part B grantees, current grantees who wish to leave a consortium, and eligible federally recognized Indian tribal organizations that are not now participating in Title VI, and would like to apply as a new grantee. Those Tribes who were a part of a consortium receiving a Title VI grant in 1991 and applying individually will be considered an “old grantee”. Proof of being a part of a consortium that was funded in FY 1991 must be submitted as part of the application. A tribal organization or Indian tribe must meet the application requirements contained in sections 612(a), 612(b), and 612(c) of the OAA. A public or nonprofit organization serving Native Hawaiians must meet the application requirements contained in sections 622(1), 622(2), and 625 of the OAA. Under the Native American Caregiver Support Program, a tribal or Native Hawaiian organization must meet the requirements as contained in section 631 of the OAA. These sections are described in the application kit.

2. Cost Sharing or Matching

Cost Sharing or matching does not apply to these grants.

3. DUNS Number

All grant applicants must obtain a D-U-N-S number from Dun and Bradstreet. It is a nine-digit identification number, which provides unique identifiers of single business entities. The D-U-N-S number is free and easy to obtain from http://www.dnb.com/US/duns_update/.

4. Intergovernmental Review

Executive Order 12372, Intergovernmental Review of Federal Programs, is not applicable to these grant applications.

IV. Application and Submission Information

1. Address To Request Application Package

Application kits are available by writing to the U.S. Department of Health and Human Services, Administration on Aging, Office for American Indian, Alaskan Native, and Native Hawaiian Programs, Washington, DC 20201, by calling 202/357-3537, or online at http://www.olderindians.org.

2. Address for Application Submission

Applications must be sent overnight delivery to the U.S. Department of Health and Human Services, Administration on Aging, Office of Grants Management, 1 Massachusetts Ave, NW., Room 4604, Washington, DC 20001, attn: Stephen Daniels (HHS-2008-AoA-Title VI-0802). You must submit one original and two copies of the application.

3. Submission Dates and Times

To receive consideration, applications must be received by the deadline listed in the DATES section of this Notice.

V. Responsiveness Criteria

Each application submitted will be screened to determine whether it was received by the closing date and time. Applications received by the closing date and time will be screened for completeness and conformity with the requirements outlined in Sections III and IV of this Notice and the Program Announcement. Only complete applications that meet these requirements will be considered for funding.

VI. Application Review Information

Not Applicable.

VII. Agency Contacts

Direct inquiries regarding programmatic issues to U.S. Department of Health and Human Services, Administration on Aging, Office for American Indian, Alaskan Native and Native Hawaiian Programs, Washington, DC 20201, telephone: (202) 357-3501.

Dated: October 18, 2007.
Josefina G. Carbonell,
Assistant Secretary for Aging.

[FR Doc. E7-20837 Filed 10-22-07; 8:45 am]

BILLING CODE 4154-01-P